DEPARTMENT OF TRANSPORTATION

Pipeline and Hazardous Materials Safety Administration

Hazardous Materials: Notice of Applications for Special Permits

AGENCY: Pipeline and Hazardous Materials Safety Administration (PHMSA), DOT.

ACTION: Notice of actions on special permit applications.

SUMMARY: In accordance with the procedures governing the application for, and the processing of, special permits from the Department of Transportation's Hazardous Material Regulations notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before April 5, 2017.

ADDRESSES: Address Comments To: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Ryan Paquet, Director, Office of Hazardous Materials Approvals and Permits Division, Pipeline and Hazardous Materials Safety Administration, U.S. Department of Transportation, East Building, PHH-30, 1200 New Jersey Avenue SE., Washington, DC 20590-0001, (202) 366-4535.

SUPPLEMENTARY INFORMATION: In accordance with the procedures governing the application for, and the processing of, special permits from the Department of Transportation's Hazardous Material Regulations (49 CFR Part 107, subpart B), notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

Copies of the applications are available for inspection in the Records Center, East Building, PHH-30, 1200 New Jersey Avenue SE., Washington, DC, or at http://regulations.gov.

This notice of receipt of applications for special permit is published in accordance with Part 107 of the Federal hazardous materials transportation law (49 U.S.C. 5117(b); 49 CFR 1.53(b)).

Issued in Washington, DC, on February 9, 2017.
Donald Burger,
Chief, Office of the Special Permits and Approvals.

Application No. | Docket No. | Applicant | Regulation(s) affected | Nature of the special permits thereof
SPECIAL PERMITS DATA
11054-M |  | Welker, Inc | 173.301(f)(2), 173.302a(a)(1), 173.304a(a)(1), 173.304a(d)(3)(i), 173.201(c), 173.202(c), 173.203(c), 177.840(a)(1) | To modify the special permit to authorize an additional containment cylinder for the transportation of non-DOT down-hole cylinders (sample core cylinders.)
11526-M |  | Unde Gas North America, LLC | 172.203(a), 173.302a(b), 180.205 (a), (c), (f), (g), 180.209(a) | To modify the special permit to authorize the use of an ultrasonic inspection method in lieu of hydrostatic testing of 3A and 3AA cylinders.
13220-M |  | Entegris, Inc | 173.192, 173.302a, 173.304a | To modify the special permit to authorize an increase in the maximum vacuum brake temperature.
13301-M |  | United Technologies Corporation | 172.200, 172.400, 172.300 | To authorize the transportation in commerce of certain hazardous materials for a distance of approximately 1700 feet without proper hazard communication.
13583-M |  | Structural Composites Industries LLC | 173.302a(a)(1), 173.304a(a)(1), 175.3, 180.205 | To authorize an increase in the maximum water volume from 90 to 95 liters of these non-specification cylinders manufactured under the special permit, SP 13583.
14453-M |  | Fiba Technologies, Inc | 180.209 | To modify the special permit to authorize additional Division 2.1 and 2.2 hazmat and bring them in line with other permits already authorizing the materials that have been issued to FIBA.
14920-M |  | Nordco Rail, Services, LLC | 173.302a(b), 172.203(a), 172.301(c), 180.205 | To modify the special permit to authorize requalification of DOT specification 3A and 3AA cylinders with 24 inch outside diameters and to indicate that Ultrasonic Examination (UE) is not required on the sidewall-to-base transitions (SBT) region of a cylinder if the cylinder design does not permit.
15389-M |  | Ametek Ameron, LLC | 173.301(a)(1), 173.302(a)(1), 173.304(a)(1), 173.302(f)(1), 173.304(f)(1) | To modify the special permit to authorize the discharge and refill of a cylinder which is found to have a small leak of the sealing disc during testing.
15869-M |  | Mercedes-Benz USA, LLC | 172.101 Column (9B) | To modify the special permit to authorize the transportation of production run lithium ion batteries weighing over 35 kg by cargo aircraft.
20239-N |  | Paklook Air, Inc | 172.101(j)(1), 172.301(c) | To authorize the transportation in commerce of certain Class 1 explosive materials which are forbidden for transportation by air, to be transported by cargo aircraft within and around the State of Alaska when other means of transportation are impracticable or not available.
20248-M |  | Total Feuerschutz GmbH | 173.309(c)(4) | To modify the special permit to authorize the transportation in commerce of previously produced fire extinguishers which are not marked with the “MEETS DOT REQUIREMENTS” Stamp.
20252-N |  | Luxfer Inc | 173.302(a), 180.205 | To authorize the manufacture, marking, sale and use of a non-DOT specification fully wrapped carbon fiber composite cylinder with a non-load sharing polymer liner for the transport of certain hazardous materials.
20255-M |  | Stericycle Specialty Waste Solutions, Inc | 171.1, 180.1 | To modify the special permit originally issued as an emergency to a permanent one.
20260-N |  | Rogers Helicopters, Inc | 173.27(b)(2), 172.101(j), 172.200(a), 172.200, 172.204(c)(3), 172.400(b), 172.400(a), 172.300(a), 172.300, 172.301(c), 175.75(b), 175.75(c), 178.1010(a)(1) | To authorize the transportation in commerce of certain hazardous materials by 14 CFR Part 133 Rotorcraft External Load Operations transporting hazardous materials attached to or suspended from an aircraft, in remote areas of the U.S only, without being subject to hazard communication requirements, quantity limitations, and certain loading and stowage requirements.
20261-N |  | Saft S.A | 173.185(a) | To authorize the transportation in commerce of prototype and low production lithium ion cells and batteries and lithium metal cells and batteries cargo-only aircraft.
20265-N |  | Hypercomp Engineering, Inc | 178.71(l)(ii) | To authorize the manufacture, mark, sale, and use of non-DOT specification composite overwrapped pressure vessels for the transportation of certain hazardous materials.
20266-N |  | Zhejiang Tiantai Zhantu Automobile Supplies Co., LTD | 173.304(a), 173.304(d) | To authorize the manufacture, mark, sale and use of a non-refillable, non-DOT specification inside metal container conforming to all regulations applicable to a DOT specification 2Q, except as specified herein, for the transportation in commerce of the materials authorized by the special permit.
20271-N |  | Ball Aerospace & Technologies Corporation | 173.24(b)(1) | To authorize the transportation in commerce of DOT specification cylinders that have an identifiable release of hazardous materials during transportation.
20285-N |  | Kinross EMS | 173.196 | To authorize the transportation of Category A infectious substances in non-DOT specification packaging following the transportation of a patient diagnosed with an infectious disease.
20297-N |  | Codysales Inc | 173.302a(b), 172.203(a), 172.301(c), 180.205 | To authorize the use of certain DOT specification 3A, 3AA, 3AL, SP9001, SP9370, SP9421, SP9706, SP9791, SP9909, SP10047, SP10869, SP11692, SP12440 cylinders used for the transportation in commerce of certain compressed gases, when retested by a 100% ultrasonic examination in lieu of the internal visual and the hydrostatic retest required in 49 CFR 189.205.
20301-N |  | Tesla Motors, Inc | 173.185(a), 173.185(b)(3)(i), 173.185(b)(3)(ii), 172.101(j) | To authorize the transportation in commerce of prototype and low production lithium ion batteries via cargo aircraft.
20302-N |  | Tesla Motors, Inc | 173.185(a) | To authorize the transportation in commerce of vehicles containing prototype lithiumion batteries via cargo-only aircraft and cargo vessel.
20303-N |  | Faraday & Future Inc | 173.185(a), 173.220(d) | To authorize the transportation of prototype and low producton lithiumion batteries via cargo-only aircraft.
20307-N |  | Tesla Motors, Inc | 173.185(a) | To authorize the transportation in commerce of low production and prototype lithium ion batteries in excess of 35 kg by cargo-only aircraft.
20311-N |  | Essex Industries, Inc | 178.57(d)(3) | To authorize the manufacture, mark, sale, and use of non-DOT specification cylinders meeting the requirements of 4L cylinders except that the heat transfer from the atmosphere to the contents of the cylinder may exceed 0.0005 as specified herein.
20313-N |  | Tier Holdings, LLC | 173.244 | To authorize the one-way transportation in commerce of sodium in two non-DOT specification portable tanks.
20321-N |  | Colmac Coil Manufacturing, Inc | 173.202 | To authorize the transportation in commerce of methanol in alternative packaging by motor vehicle and cargo vessel.
20322-N |  | C.H.& I. Technologies, Inc | 178.33-1(a), 178.33a-1(a) | To authorize the transportation in commerce of refillable 2P and 2Q receptacles.
20323-N |  | Camx Power LLC | 173.185(a) | To authorize the transportation in commerce of prototype and low production lithium ion and lithium metal cells and batteries exceeding 35 kg in non-specification packaging via cargo-only aircraft.
20326-N |  | Aviation Inflatables, Inc | 173.302(a), 173.3(a), 175.3 | To authorize the transportation in commerce of non-DOT specification cylinders charged with a mixture of carbon dioxide and nitrogen gases.
20337-N |  | Textron Systems Corporation | 173.27(b)(2), 173.27(b)(3), 175.30(a)(1), 172.101(j), 172.204(c)(3) | To authorize the transportation in commerce of Class 1 materials forbidden by cargo-only aircraft via air transportation.
20338-N |  | Beanworthy, LLC | 173.185(f), 173.185(f)(2), 173.185(f)(3) | We are recalling 12,703 hand warmers with built in 4400mAh lithiumion batteries from individual customers. We would like to ask customers to mail their products by USPS ground service to our location for consolidation and subsequent transport to a certified recycling facility. Note: the letter from CPSC is addressed to KindMinds Innovations rather than Beanworthy. KindMinds is an associated company of Beanworthy and private labeler of the product.
20340-N |  | Vinci Technologies | 173.301(f), 173.302(a), 173.304(a), 173.201, 178.37(f) | To authorize the transportation in commerce of certain hazardous materials in non-DOT specification cylinders.
20342-N |  | O M P Racing Spa | 173.309(c)(3) | To authorize the transportation in commerce of fire extinguishers with a burst pressure lower than that required in the HMR.
20351-N |  | Roeder Cartage Company, Incorporated | 180.407(c), 180.407(e), 180.407(f) | To authorize the transportation in commerce of Acetonitrile and Acetonitrile, crude in dedicated DOT Specification 407 and 412 cargo tanks which are not required to have periodic internal visual inspections.
20364-N |  | Peter Pan Seafoods, Inc | 173.218(a) | To authorize the transportation in commerce of fish meal in certain non-specification bags and intermediate Bulk Containers (IBCs).
20369-N |  | Alevo Inc | 173.185 | To authorize the transportation in commerce of lithium batteries that have not been tested according to UN 38.3 lithium ion battery tests.
20371-N |  | Linde Gas North America LLC | 173.301(f), 173.314(c), 179.301 | To authorize the addition of Nitrous Oxide, Liquified gas to the list of hazmat authorized for transportation in commerce by the permit.
20372-M |  | General Defense Corp | 172.101(j), 172.204(c)(3) | To modify the origination location of the shipment.
20372-N |  | General Defense Corp | 172.101(j), 172.204(c)(3) | To authorize the one-time, one way transportation of an explosive by cargo aircraft, which is otherwise forbidden by the regulations.
20373-N |  | Silk Way West Airlines MMC | 173.27, 175.30(a)(1), 172.204(c)(3) | To authorize the one-time transportation in commerce of certain explosives that are forbidden for transportation by cargo only aircraft.
20375-N |  | DMC Sales & Supply | 177.834(h) | Relief of 49 CFR 177.834(h).
20376-N |  | Department of Defense (Military Surface Deployment & Distribution Command) | 173.302(a), 173.304(a) | To authorize the transportation of certain hazardous materials in non-DOT specification cylinders.
20379-N |  | Nexair LLC | 173.301(a) | Party holder.
20382-N |  | Nextev USA, Inc | 173.185(a)(1), 173.185(b)(3)(i), 173.185(b)(3)(ii) | To authorize the transportation of lithiumion batteries which exceed the allowable weight (35 kg) by cargo aircraft.
20390-N |  | American Security Cabinets Inc | 171.180 | To authorize the manufacture, mark, sale and use of non-DOT specification packaging for the transportation in commerce of certain materials authorized to be disposed of under 21 CFR Part 1317, Subpart B.

[FR Doc. 2017-04016 Filed 3-3-17; 8:45 am]

BILLING CODE 4909-60-P